DEPARTMENT OF COMMERCE

International Trade Administration

[A-588-804]

Ball Bearings and Parts Thereof From Japan: Notice of Court Decision Not in Harmony With the Final Results of Antidumping Duty Administrative Review; 2008-2009

AGENCY: Enforcement and Compliance, International Trade Administration, Department of Commerce.

SUMMARY: On July 14, 2015, the United States Court of International Trade (CIT) issued final judgment in NTN Bearing Corporation of America v. United States, Court No. 10-00286, Slip Op. 15-76 (CIT July 14, 2015), affirming the Department of Commerce's (the Department) amended final results of redetermination pursuant to remand.¹

¹ See Amended Final Results of Remand Redetermination pursuant to NTN Bearing Corporation of America v. United States, Court No. 10-00286, Slip Op. 15-12 (CIT February 3, 2015), dated May 6, 2015, and filed with the CIT on May 7, 2015 (Amended Final Remand).

Consistent with the decision of the United States Court of Appeals for the Federal Circuit (CAFC) in Timken Co. v. United States, 893 F.2d 337 (Fed. Cir. 1990) (Timken), as clarified by Diamond Sawblades Mfrs. Coalition v. United States, 626 F.3d 1374 (Fed. Cir. 2010) (Diamond Sawblades), the Department is notifying the public that the final judgment in this case is not in harmony with the Department's final results of the administrative review of the antidumping duty order on ball bearings and parts thereof from Japan covering the period May 1, 2008 through April 30, 2009.

DATES: Effective Date: July 24, 2015.

FOR FURTHER INFORMATION CONTACT: Thomas Schauer, AD/CVD Office I, Enforcement and Compliance, International Trade Administration, U.S. Department of Commerce, 14th Street and Constitution Avenue NW., Washington, DC 20230; telephone: (202) 482-0410.

SUPPLEMENTARY INFORMATION:

Background

On September 1, 2010, the Department published AFBs 20.² NTN Corporation (NTN) and other parties appealed AFBs 20 to the CIT. On February 3, 2015, the CIT remanded AFBs 20 and ordered the Department to revise its calculation of NTN's U.S. credit expenses to use the correct variable and recalculate the weighted-average dumping margin for NTN.³ On May 4, 2015, the Department filed its final results of redetermination pursuant to remand in accordance with the CIT's order,⁴ but on the same day the Department sought leave to file an amended remand redetermination, noting that The Timken Company had commented on the draft remand redetermination.⁵ The CIT granted the Department's leave request on May 5, 2015.⁶ On May 7 2015, the Department filed its amended final results of redetermination.⁷ The changes to the Department's calculations with respect to NTN did not result in a change in the weighted-average dumping margin.⁸ The CIT affirmed the Department's Amended Final Remand on July 14, 2015, and entered judgment.⁹

² See Ball Bearings and Parts Thereof From France, Germany, Italy, Japan, and the United Kingdom: Final Results of Antidumping Duty Administrative Reviews, Final Results of Changed-Circumstances Review, and Revocation of an Order in Part, 75 FR 53661 (September 1, 2010) (AFBs 20).

³ See NTN Bearing Corporation of America v. United States, Court No. 10-00286, Slip Op. 15-12 (CIT February 3, 2015) at 21.

⁴ See Final Results of Remand Redetermination pursuant to NTN Bearing Corporation of America v. United States, Court No. 10-00286, Slip Op. 15-12 (CIT February 3, 2015), dated April 13, 2015, and filed with the CIT on May 4, 2015.

⁵ See NTN Bearing Corporation of America v. United States, Court No. 10-00286, Slip Op. 15-76 (CIT July 14, 2015) (NTN Bearing II) at 1 n.1.

⁶ Id.

⁷ See Amended Final Remand.

⁸ Id.

⁹ See NTN Bearing II.

Timken Notice

In its decision in Timken, as clarified by Diamond Sawblades, the CAFC held that, pursuant to section 516A(e) of the Tariff Act of 1930, as amended (the Act), the Department must publish a notice of a court decision that is not “in harmony” with a Department determination and must suspend liquidation of entries pending a “conclusive” court decision. The CIT's July 14, 2015, judgment affirming the Amended Final Remand constitutes a final decision of the CIT that is not in harmony with AFBs 20. This notice is published in fulfillment of the publication requirements of Timken.

Continuation of Suspension of Liquidation

The Department will continue the suspension of liquidation of the subject merchandise pending the expiration of the period of appeal or, if appealed, pending a final and conclusive court decision. In the event the CIT's ruling is not appealed, or if appealed and upheld by the CAFC, the Department will instruct U.S. Customs and Border Protection (CBP) to assess antidumping duties on appropriate entries of the subject merchandise using the rate calculated by the Department in AFBs 20.

Cash Deposit Requirements

Because we revoked the antidumping duty order on ball bearings and parts thereof from Japan, effective September 15, 2011, no cash deposits for estimated antidumping duties on future entries of subject merchandise will be required.¹⁰

¹⁰ See Ball Bearings and Parts Thereof From Japan and the United Kingdom: Final Results of Sunset Reviews and Revocation of Antidumping Duty Orders, 79 FR 16771 (March 26, 2014).

Notification to Interested Parties

This notice is issued and published in accordance with sections 516A(e)(1), 751(a)(1), and 777(i)(1) of the Act.

Dated: July 24, 2015.
Paul Piquado,
Assistant Secretary for Enforcement and Compliance.

[FR Doc. 2015-18732 Filed 7-29-15; 8:45 am]

BILLING CODE 3510-DS-P